DEPARTMENT OF HEALTH AND HUMAN SERVICES

National Advisory Committee on Seniors and Disasters Meeting Notice; Cancellation

AGENCY: National Advisory Committee on Seniors and Disasters (NACSD), Administration for Strategic Preparedness and Response (ASPR), U.S. Department of Health and Human Services (HHS).

ACTION: Notice; cancellation of meeting.

SUMMARY: The Administration for Strategic Preparedness and Response (ASPR) published a notice in the Federal Register concerning a public meeting of the National Advisory Committee on Seniors and Disasters (NACSD). The public meeting, scheduled for Monday, May 20, 2024, at 2:30 p.m. ET, has been cancelled and will be rescheduled for a later date. The notice is in the Federal Register on Thursday, May 2, 2024, in FR Document Number 2024-09584 on pages 35843-35844 (2 pages).

FOR FURTHER INFORMATION CONTACT: Dr. Maxine Kellman; NACSD Designated Federal Official, at NACSD@HHS.GOV or (202) 260-0047.

The Administrator and Assistant Secretary for Preparedness and Response of ASPR, Dawn O'Connell, having reviewed and approved this document, authorizes Mary Radebach, who is the Federal Register Liaison, to electronically sign this document for purposes of publication in the Federal Register.

Dated: May 17, 2024.
Mary Radebach,
Federal Register Liaison, Administration for Strategic Preparedness and Response.

[FR Doc. 2024-11297 Filed 5-22-24; 8:45 am]

BILLING CODE 4150-37-P